DEPARTMENT OF THE TREASURY

Submission for OMB Review; Comment Request

May 25, 2016.

The Department of the Treasury will submit the following information collection requests to the Office of Management and Budget (OMB) for review and clearance in accordance with the Paperwork Reduction Act of 1995, Public Law 104-13, on or after the date of publication of this notice.

DATES: Comments should be received on or before July 1, 2016 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submissions may be obtained by emailing PRA@treasury.gov, calling (202) 622-1295, or viewing the entire information collection request at www.reginfo.gov.

Internal Revenue Service (IRS)

OMB Control Number: 1545-1546.

Type of Review: Extension of a previously approved collection.

Title: Revenue Procedure 97-33, EFTPS (Electronic Federal Tax Payment System).

Abstract: Some taxpayers are required by regulations issued under Sec. 6302 (h) of the Internal Revenue Code to make Federal Tax Deposits (FTDs) using the Electronic Federal Tax Payment System (EFTPS). Other taxpayers may choose to voluntarily participate in EFTPS. EFTPS requires that a taxpayer complete an enrollment form to provide the information the IRS needs to properly credit the taxpayer's account. Revenue 97-33 provides procedures and information that will help taxpayers to electronically make FTDs and tax payments through EFTPS.

Affected Public: Businesses or other for-profits.

Estimated Total Annual Burden Hours: 278,622.

OMB Control Number: 1545-1850.

Type of Review: Extension of a previously approved collection.

Title: TD 9178—Testimony or Production of Records in a Court or Other Proceeding.

Abstract: This document contains final regulations replacing the existing regulation that establishes the procedures to be followed by IRS officers and employees upon receipt of a request or demand for disclosure of IRS records or information. The purpose of the final regulations is to provide specific instructions and to clarify the circumstances under which more specific procedures take precedence. The final regulations extend the application of the regulation to former IRS officers and employees as well as to persons who are or were under contract to the IRS. The final regulations affect current and former IRS officers, employees and contractors, and persons who make requests or demands for disclosure.

Affected Public: Individuals or households.

Estimated Total Annual Burden Hours: 1,400.

OMB Control Number: 1545-2025.

Type of Review: Revision of a currently approved collection.

Title: Clean Renewable Energy Bond Credit and Gulf Bond Credit.

Abstract: Form 8912, Clean Renewable Energy Bond Credit and Gulf Bond Credit, was developed to carry out the provisions of new Internal Revenue Code sections 54 and 1400N(l). The form provides a means for the taxpayer to compute the clean renewable energy bond credit and the Gulf bond credit.

Estimated Total Annual Burden Hours: 6,890.

OMB Control Number: 1545-2168.

Type of Review: Revision of a currently approved collection.

Title: Tax Return Preparer Complaint Process.

Form: Form 14157, Form 14157-A.

Abstract: These forms (14157 and 14157-A), are designed specifically for tax return preparer complaints and include the items necessary for the IRS to evaluate and route to the appropriate function. The form will be used by taxpayers to report allegations of misconduct by tax return preparers.

Affected Public: Individuals or households.

Estimated Total Annual Burden Hours: 2,337.

Brenda Simms,
Treasury PRA Clearance Officer.

[FR Doc. 2016-12730 Filed 5-31-16; 8:45 am]

BILLING CODE 4830-01-P